DEPARTMENT OF ENERGY

Federal Energy Regulatory Commission

[Docket Nos. EL00-95-000, EL00-98-000, and ER03-746-000]

San Diego Gas & Electric Company, Complainant v. Sellers of Energy and Ancillary Service Into Markets Operated by the California Independent System Operator Corporation and the California Power Exchange, Respondents; Investigation of Practices of the California Independent System Operator and the California Power Exchange, California Independent System Operator Corporation; Notice Shortening Comment Period

August 24, 2004.

On August 23, 2004, CP Kelco, U.S., Inc. (CP Kelco) filed a motion to intervene out of time and a motion for an extension of the deadline to submit fuel cost allowance filings, in the above-docketed proceedings. By this notice, the period for filing comments on CP Kelco's August 23, 2004 motion is hereby shortened, to and including August 26, 2004.

Magalie R. Salas,
Secretary.

[FR Doc. E4-2022 Filed 9-1-04; 8:45 am]

BILLING CODE 6717-01-P